DEPARTMENT OF THE INTERIOR

Bureau of Indian Affairs

Renewal of Agency Information Collection for Loan Guaranty, Insurance, and Interest Subsidy Program

AGENCY: Bureau of Indian Affairs, Interior.

ACTION: Notice of request for comments.

SUMMARY: The Department of the Interior (DOI), Office of Indian Energy and Economic Development (IEED) is seeking comments on renewal of Office of Management and Budget (OMB) approval, pursuant to the Paperwork Reduction Act, for the collection of information for the Loan Guaranty, Insurance, and Interest Subsidy Program. The information collection is currently authorized by OMB Control Number 1076-0020, which expires April 30, 2010. The information collection allows IEED to ensure compliance with Program requirements and includes the use of several forms.

DATES: Interested persons are invited to submit comments on or before March 30, 2010.

ADDRESSES: You may submit comments on the information collection to and obtain copies of the revised forms from Molly Kubiak, Office of Indian Energy and Economic Development, U.S. Department of the Interior, 1951 Constitution Ave., NW., Mail Stop 20-SIB, Washington, DC 20245; facsimile: (202) 208-4564; or e-mail: molly.kubiak@bia.gov.

FOR FURTHER INFORMATION CONTACT: Molly Kubiak, (202) 208-0121.

SUPPLEMENTARY INFORMATION:

I. Abstract

IEED is seeking renewal of the approval for the information collection conducted under 25 CFR 103, implementing the Loan Guaranty, Insurance, and Interest Subsidy Program, established by 25 U.S.C 1481 et seq. Approval for this collection expires April 30, 2010. The information collection allows IEED determine the eligibility and credit-worthiness of respondents and loans and otherwise ensure compliance with Program requirements. This information collection includes the use of several forms to be revised, including: 5-4753 Loan Guaranty Agreement, 5-4754 Loan Insurance Agreement, 5-4754a Notice of Insured Loan, 5-4755 Request to BIA for Loan Guaranty, Loan Insurance, and/or Interest Subsidy, 5-4749 Interest Subsidy Report, 5-4759 Assignment of Loan Documents and Related Rights, 5-4760a Notice of Default, and 5-4760b Claim for Loss. The revision will change these forms to: 5-4753 Loan Guaranty Agreement, 5-4754 Loan Insurance Agreement, 5-4754a Notice of Insured Loan, 5-4755 Request for Indian Affairs Loan Guaranty, Loan Insurance, and/or Interest Subsidy, 5-4749 Interest Subsidy Report, 5-4759 Assignment of Loan Documents and Related Rights, 5-4760a Notice of Default, and 5-4760b Claim for Loss. No third party notification or public disclosure burden is associated with this collection. There is no change to the approved burden hours for this information collection, but IEED is revising several of the forms.

II. Request for Comments

The Department requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires April 30, 2010.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0020.

Title: Loan Guaranty, Insurance, and Interest Subsidy, 25 CFR 103.

Brief Description of Collection: Submission of this information allows IEED to implement the Loan Guaranty, Insurance, and Interest Subsidy Program, 25 U.S.C. 1481 et seq., the purpose of which is to encourage private lending to individual Indians and Indian organizations by providing lenders with loan guarantees or loan insurance to reduce their potential risk. The information collection allows IEED determine the eligibility and credit-worthiness of respondents and loans and otherwise ensure compliance with Program requirements. This information collection includes the use of several forms. Response is required to obtain a benefit.

Type of Review: Revision of a currently approved collection.

Respondents: Commercial banks and Individual Indians and Indian organizations.

Number of Respondents: 350.

Total Number of Responses: 1,527.

Frequency of Response: As needed.

Estimated Time per Response: 2 hours.

Estimated Total Annual Burden: 3,054 hours.

Total Annual Cost to Respondents: $60,280.

Dated: January 25, 2010.
Alvin Foster,
Chief Information Officer—Indian Affairs.

[FR Doc. 2010-1789 Filed 1-28-10; 8:45 am]

BILLING CODE 4310-4J-P